NUCLEAR REGULATORY COMMISSION

[Docket No. NRC-2009-0186]

Agency Information Collection Activities: Proposed Collection; Comment Request

AGENCY: U.S. Nuclear Regulatory Commission (NRC).

ACTION: Notice of pending NRC action to submit an information collection request to the Office of Management and Budget (OMB) and solicitation of public comment.

SUMMARY: The NRC invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: Policy Statement on Cooperation with States at Commercial Nuclear Power Plants and Other Production or Utilization Facilities;

2. Current OMB approval number: 3150-0163;

3. How often the collection is required: On occasion, when a State wishes to observe NRC inspections or perform inspections for NRC;

4. Who is required or asked to report: Those States interested in observing or performing inspections;

5. The number of annual respondents: 56 (50 for nuclear facility licensees + 6 for materials security licensees);

6. The number of hours needed annually to complete the requirement or request: 800 hours (approximately 10 hours per response);

7. Abstract: States wishing to enter into an agreement with NRC to observe or participate in NRC inspections at nuclear power facilities or conduct materials security inspections against NRC Orders are requested to provide certain information to the NRC to ensure close cooperation and consistency with the NRC inspection program, as specified by the Commission's Policy of Cooperation with States at Commercial Nuclear Power Plants and Other Nuclear Production or Utilization Facilities and Section 274i of the Atomic Energy Act, as amended.

Submit, by August 10, 2009, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2009-0186. You may submit your comments by any of the following methods. Electronic comments: Go to http://www.regulations.gov and search for Docket No. NRC-2009-0186. Mail comments to NRC Clearance Officer, Tremaine Donnell (T-5 F53), U.S. Nuclear Regulatory Commission, Washington, DC 20555-0001. Questions about the information collection requirements may be directed to the NRC Clearance Officer, Tremaine Donnell (T-5 F53), U.S. Nuclear Regulatory Commission, Washington, DC 20555-0001, by telephone at 301-415-6874, or by e-mail to INFOCOLLECTS.Resource@NRC.GOV.

Dated at Rockville, Maryland, this 4th day of June 2009.
For the Nuclear Regulatory Commission,
Tremaine Donnell,
Acting NRC Clearance Officer, Office of Information Services.

[FR Doc. E9-13704 Filed 6-10-09; 8:45 am]

BILLING CODE 7590-01-P